INTERNATIONAL TRADE COMMISSION

[Investigations Nos. 731-TA-1074 and 1075 (Final)]

Certain Circular Welded Carbon Quality Line Pipe From Korea and Mexico

AGENCY: International Trade Commission.

ACTION: Termination of investigations.

SUMMARY: On February 17, 2005, the U.S. Department of Commerce published notice of the termination of its antidumping duty investigations on certain circular welded carbon quality line pipe from Korea and Mexico (70 FR 8071). Accordingly, the Commission gives notice that its antidumping duty investigations concerning such line pipe from Korea and Mexico (Investigations Nos. 731-TA-1074 and 1075 (Final)) are terminated.

DATES: Effective Date: February 17, 2005.

FOR FURTHER INFORMATION CONTACT: Fred Ruggles (202-205-3187 or via e-mail fred.ruggles@usitc.gov), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: These investigations are being terminated under authority of title VII of the Tariff Act of 1930; this notice is published pursuant to section 207.40 of the Commission's rules (19 CFR 207.40).

Issued: February 24, 2005.
By order of the Commission.
Marilyn R. Abbott,
Secretary to the Commission.

[FR Doc. 05-3904 Filed 2-28-05; 8:45 am]

BILLING CODE 7020-02-P